DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arkansas:
Pulaski (FEMA Docket No.: B-2006) | City of Little Rock (19-06-2539P) | The Honorable Frank D. Scott, Jr., Mayor, City of Little Rock, 500 West Markham Street, Room 203, Little Rock, AR 72201 | Public Works Department, 701 West Markham Street, Little Rock, AR 72201 | Apr. 13, 2020 | 050181
Pulaski (FEMA Docket No.: B-2006) | Unincorporated areas of Pulaski County (19-06-2539P) | The Honorable Barry Hyde, Pulaski County Judge, 201 South Broadway Street, Suite 400, Little Rock, AR 72201 | Pulaski County Public Works Department, 3200 Brown Street, Little Rock, AR 72204 | Apr. 13, 2020 | 050179
Colorado:
Boulder (FEMA Docket No.: B-1981) | City of Lafayette (19-08-0592P) | The Honorable Alexandra Lynch, Mayor, City of Lafayette, 1290 South Public Road, Lafayette, CO 80026 | Planning Department, 1290 South Public Road, Lafayette, CO 80026 | Mar. 27, 2020 | 080026
Boulder (FEMA Docket No.: B-1981) | Unincorporated areas of Boulder County (19-08-0592P) | The Honorable Elise Jones, Chair, Boulder County Board of Commissioners, P.O. Box 471, Boulder, CO 80306 | Boulder County Transportation Department, 2525 13th Street, Suite 203, Boulder, CO 80304 | Mar. 27, 2020 | 080023
Broomfield (FEMA Docket No.: B-1981) | City and County of Broomfield (19-08-0592P) | The Honorable Randy Ahrens, Mayor, City and County of Broomfield, 1 Descombes Drive, Broomfield, CO 80020 | Engineering Department, 1 Descombes Drive, Broomfield, CO 80020 | Mar. 27, 2020 | 085073
Connecticut: Fairfield (FEMA Docket No.: B-2008) | City of Stamford (19-01-1380P) | The Honorable David Martin, Mayor, City of Stamford, 888 Washington Boulevard, Stamford, CT 06901 | City Hall, 888 Washington Boulevard, Stamford, CT 06901 | Apr. 13, 2020 | 090015
Florida:
Charlotte (FEMA Docket No.: B-1981) | Unincorporated areas of Charlotte County (19-04-1634P) | The Honorable Ken Doherty, Chairman, Charlotte County Board of Commissioners, 18500 Murdock Circle, Suite 536, Port Charlotte, FL 33948 | Charlotte County Community Development Department, 18500 Murdock Circle, Port Charlotte, FL 33948 | Apr. 6, 2020 | 120061
Miami-Dade (FEMA Docket No.: B-2006) | City of Doral (19-04-4177P) | The Honorable Juan Carlos Bermudez, Mayor, City of Doral, 8401 Northwest 53rd Terrace, Doral, FL 33166 | City Hall, 8401 Northwest 53rd Terrace, Doral, FL 33166 | Apr. 10, 2020 | 120041
Monroe (FEMA Docket No.: B-2006) | Unincorporated areas of Monroe County (19-04-6355P) | The Honorable Sylvia Murphy, Mayor, Monroe County Board of Commissioners, 102050 Overseas Highway, Suite 234, Key Largo, FL 33037 | Monroe County Building Department, 2798 Overseas Highway, Suite 300, Marathon, FL 33050 | Apr. 7, 2020 | 125129
Georgia: Bryan (FEMA Docket No.: B-1981) | Unincorporated areas of Bryan County (19-04-2627P) | The Honorable Carter Infinger, Chairman, Bryan County Board of Commissioners, 51 North Courthouse Street, Pembroke, GA 31321 | Bryan County Engineering Department, 66 Captain Matthew Freeman Drive, Richmond Hill, GA 31324 | Apr. 3, 2020 | 130016
Kentucky: Fayette (FEMA Docket No.: B-2006) | Lexington-Fayette Urban County Government (19-04-1650P) | The Honorable Linda Gorton, Mayor, Lexington-Fayette Urban County Government, 200 East Main Street, Lexington, KY 40507 | Lexington-Fayette Urban County Government Planning Division, 101 East Vine Street, 4th Floor, Lexington, KY 40502 | Mar. 31, 2020 | 210067
Massachusetts: Essex (FEMA Docket No.: B-2006) | City of Gloucester (19-01-1679P) | The Honorable Sefatia Romeo Theken, Mayor, City of Gloucester, 9 Dale Avenue, Gloucester, MA 01930 | City Hall, 3 Pond Road, Gloucester, MA 01930 | Apr. 6, 2020 | 250082
Mississippi: Lafayette (FEMA Docket No.: B-2006) | City of Oxford (19-04-0963P) | The Honorable Robyn Tannehill, Mayor, City of Oxford, 107 Courthouse Square, Oxford, MS 38655 | City Courthouse, 107 Courthouse Square, Oxford, MS 38655 | Mar. 25, 2020 | 280094
North Carolina: Guilford (FEMA Docket No.: B-2008) | City of High Point (19-04-4081P) | The Honorable Jay W. Wagner, Mayor, City of High Point, P.O. Box 230, High Point, NC 27261 | City Hall, 211 South Hamilton Street, High Point, NC 27261 | Apr. 17, 2020 | 370113
Oklahoma: Canadian (FEMA Docket No.: B-2008) | City of Oklahoma City (19-06-3335P) | The Honorable David Holt, Mayor, City of Oklahoma City, 200 North Walker Avenue, Oklahoma City, OK 73102 | Department of Public Works, 420 West Main Street, Suite 700, Oklahoma City, OK 73102 | Apr. 7, 2020 | 405378
Texas:
Bexar (FEMA Docket No.: B-2006) | City of San Antonio (19-06-0009P) | The Honorable Ron Nirenberg, Mayor, City of San Antonio, P.O. Box 839966, San Antonio, TX 78283 | Transportation and Capital Improvements Department, Storm Water Division, 1901 South Alamo Street, 2nd Floor, San Antonio, TX 78204 | Mar. 30, 2020 | 480045
Bexar (FEMA Docket No.: B-2016) | City of San Antonio (19-06-3807P) | The Honorable Ron Nirenberg, Mayor, City of San Antonio, P.O. Box 839966, San Antonio, TX 78283 | Transportation and Capitol Improvements Department, Storm Water Division, 114 West Commerce Street, 7th Floor, San Antonio, TX 78205 | Apr. 13, 2020 | 480045
Bexar (FEMA Docket No.: B-2016) | Unincorporated areas of Bexar County (19-06-3807P) | The Honorable Nelson W. Wolff, Bexar County Judge, 101 West Nueva Street, 10th Floor, San Antonio, TX 78205 | Bexar County Public Works Department, 1948 Probandt Street, San Antonio, TX 78214 | Apr. 13, 2020 | 480035
Collin (FEMA Docket No.: B-2006) | City of Allen (19-06-2793P) | The Honorable Stephen Terrell, Mayor, City of Allen, 305 Century Parkway, 1st Floor, Allen, TX 75013 | City Hall, 305 Century Parkway, Allen, TX 75013 | Apr. 10, 2020 | 480131
Collin (FEMA Docket No.: B-2006) | City of Plano (19-06-1989P) | The Honorable Harry LaRosiliere, Mayor, City of Plano, 1520 K Avenue, Suite 300, Plano, TX 75074 | Department of Engineering, 1520 K Avenue, Suite 250, Plano, TX 75074 | Apr. 3, 2020 | 480140
Denton (FEMA Docket No.: B-2006) | City of Fort Worth (20-06-0236P) | The Honorable Betsy Price, Mayor, City of Fort Worth, 200 Texas Street, Fort Worth, TX 76102 | Transportation and Public Works Department, 200 Texas Street, Fort Worth, TX 76102 | Mar. 31, 2020 | 480596
Denton (FEMA Docket No.: B-2006) | City of Highland Village (19-06-1117P) | The Honorable Charlotte Wilcox, Mayor, City of Highland Village, 1000 Highland Village Road, Highland Village, TX 75077 | City Hall, 1000 Highland Village Road, Highland Village, TX 75077 | Apr. 10, 2020 | 481105
Denton (FEMA Docket No.: B-2006) | Town of Copper Canyon (19-06-1117P) | The Honorable Ron Robertson, Mayor, Town of Copper Canyon, 400 Woodland Drive, Copper Canyon, TX 75077 | Town Hall, 400 Woodland Drive, Copper Canyon, TX 75077 | Apr. 10, 2020 | 481508
Denton (FEMA Docket No.: B-2006) | Unincorporated areas of Denton County (20-06-0236P) | The Honorable Andy Eads, Denton County Judge, 110 West Hickory Street, 2nd Floor, Denton, TX 76201 | Denton County Transportation and Public Works Department, 1505 East McKinney Street, Suite 175, Denton, TX 76209 | Mar. 31, 2020 | 480774
Harris (FEMA Docket No.: B-2006) | Unincorporated areas of Harris County (19-06-1720P) | The Honorable Lina Hidalgo, Harris County Judge, 1001 Preston Street, Suite 911, Houston, TX 77002 | Harris County Permit Office, 10555 Northwest Freeway, Suite 120, Houston, TX 77092 | Apr. 6, 2020 | 480287
Tarrant (FEMA Docket No.: B-2006) | City of Fort Worth (19-06-3050P) | The Honorable Betsy Price, Mayor, City of Fort Worth, 200 Texas Street, Fort Worth, TX 76102 | Transportation and Public Works Department, 200 Texas Street, Fort Worth, TX 76102 | Apr. 2, 2020 | 480596
Virginia:
Charlotte (FEMA Docket No.: B-1981) | Town of Drakes Branch (19-03-0477P) | The Honorable Denise L. Pridgen, Mayor, Town of Drakes Branch, P.O. Box 191, Drakes Branch, VA 23937 | Town Hall, 4800 Drakes Main Street, Drakes Branch, VA 23937 | Apr. 14, 2020 | 510032
Independent City (FEMA Docket No.: B-2006) | City of Harrisonburg (19-03-1517P) | The Honorable Deanna R. Reed, Mayor, City of Harrisonburg, 409 South Main Street, Harrisonburg, VA 22801 | City Hall, 409 South Main Street, Harrisonburg, VA 22801 | Mar. 26, 2020 | 510076
Loudoun (FEMA Docket No.: B-2006) | Town of Leesburg (20-03-0036P) | The Honorable Kelly Burk, Mayor, Town of Leesburg, 25 West Market Street, Leesburg, VA 20176 | Town Hall, 25 West Market Street, Leesburg, VA 20176 | Apr. 13, 2020 | 510091

[FR Doc. 2020-10103 Filed 5-11-20; 8:45 am]

BILLING CODE 9110-12-P